SMALL BUSINESS ADMINISTRATION

[Disaster Declaration #20568 and #20569; TEXAS Disaster Number TX-20023]

Presidential Declaration Amendment of a Major Disaster for Public Assistance Only for the State of Texas

AGENCY: U.S. Small Business Administration.

ACTION: Amendment 2.

SUMMARY: This is an amendment of the Presidential declaration of a major disaster for Public Assistance Only for the State of Texas (FEMA-4798-DR), dated August 21, 2024.

DATES: Issued on September 17, 2024.

Physical Loan Application Deadline Date: October 21, 2024.

Economic Injury (EIDL) Loan Application Deadline Date: May 21, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Texas, dated August 21, 2024, is hereby amended to include the following areas as adversely affected by the disaster.

Incident: Hurricane Beryl.

Incident Period: July 5, 2024 through July 9, 2024.

Primary Counties: Chambers.

All other information in the original declaration remains unchanged.

(Catalog of Federal Domestic Assistance Number 59008)

Francisco Sánchez, Jr.,
Associate Administrator, Office of Disaster Recovery & Resilience.

[FR Doc. 2024-21669 Filed 9-20-24; 8:45 am]

BILLING CODE 8026-09-P